CORPORATION FOR NATIONAL AND COMMUNITY SERVICE

Sunshine Act Meeting Notice

The White House Council for Community Solutions gives notice of their following first meeting:

DATE AND TIME: Friday, February 4, 2011, 1 p.m.-3 p.m. Eastern Standard Time.

PLACE: The Council will meet in the Eisenhower Executive Office Building. This meeting will be streamed live for public viewing and a link will be available on the council's Web site: http://www.serve.gov/communitysolutions.

PUBLIC COMMENT: The public is invited to submit publicly available comments through the Council's Web site. To send statements to the Council, please send written statements to the Council's electronic mailbox at WhiteHouseCouncil@cns.gov. The public can also follow the Council's work by visiting its Web site: http://www.serve.gov/communitysolutions.

STATUS: Open.

MATTERS TO BE CONSIDERED: The purpose of this meeting is to review the Council's charge, discuss the key issues impacting youth employment, education, work preparedness and the healthy transition to adulthood, and establish committees to carry out the Council's work.

CONTACT PERSON FOR MORE INFORMATION: Susannah Washburn, Executive Director, White House Council for Community Solutions, Corporation for National and Community Service, 10th Floor, Room 10911, 1201 New York Avenue, NW., Washington, DC 20525. Phone (202) 606-6740. Fax (202) 606-3464. E-mail: swashburn@cns.gov.

Dated: January 6, 2011.
Susannah Washburn,
Executive Director.

[FR Doc. 2011-467 Filed 1-7-11; 11:15 am]

BILLING CODE 6050-$$-P